DEPARTMENT OF COMMERCE

National Oceanic and Atmospheric Administration

RIN 0648-XD957

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council and its Committees.

DATES: The meetings will be held Monday, June 8, 2015 through Thursday, June 11, 2015. For agenda details, see SUPPLEMENTARY INFORMATION.

ADDRESSES: The meeting will be held at: Hilton Virginia Beach Oceanfront, 3001 Atlantic Avenue, Virginia Beach, VA 23451, telephone: (757) 213-3000.

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255. The Council's Web site, www.mafmc.org also has details on the meeting location, proposed agenda, webinar listen-in access, and briefing materials.

SUPPLEMENTARY INFORMATION: The following items are on the agenda, though agenda items may be addressed out of order (changes will be noted on the Council's Web site when possible.)

Monday, June 8, 2015

9 a.m.

Council Convenes

9 a.m.-12 p.m.

Species Interactions Workshop

—A workshop to convene scientists and managers to discuss potential strategies to fully consider species interactions and climate drivers in the stock assessment process, determination of catch limits, and to build capacity within the region to conduct comprehensive management strategy evaluations (MSEs).

1:30 p.m.-4:30 p.m.

Species Interactions Workshop (continued)

Tuesday, June 9, 2015

9 a.m.-11 a.m.

Mackerel, Squid, Butterfish Committee, Meeting as a Committee of the Whole

—Review SSC, Advisory Panel, Monitoring Committee, and staff recommendations

—Develop Council preferred alternatives for:

• 2016 squid and butterfish specifications (only if changes are necessary)

• 2016-2018 mackerel specifications

• Associated mackerel, squid, butterfish management measures

11 a.m.-12 p.m.

Mackerel, Squid, Butterfish Committee, Meeting as a Committee of the Whole (continued)

—Review squid amendment scoping comments

—Provide guidance to staff regarding amendment development

1 p.m.-2 p.m.

River Herring and Shad Committee, Meeting as a Committee of the Whole

—Review and develop recommendations for the river herring and shad cap (2016-2018)

—Review progress on river herring and shad conservation

2 p.m.

Council Convenes

2 p.m.-3:30 p.m.

Surfclam and Ocean Quahog Specifications

—Review SSC, Advisory Panel, and staff recommendations for 2016 specifications

—Recommend any changes if necessary

3:30 p.m.-4 p.m.

National Standard 1, 3, 7 Guidelines

—Review draft comment letter on proposed revisions

4 p.m.-4:30 p.m.

Commercial Fishery Mapping in support of Regional Ocean planning: Northeast Regional Ocean Council—George Lapointe

4:30 p.m.-5:30 p.m.

Listening Session—Proposed Rule To Revise Listing Status of Humpback Whales—David Gouveia

Wednesday, June 10, 2015

9 a.m.

Council Convenes

9 a.m.-12 p.m.

Deep Sea Corals Amendment

—Summary of April Deep Sea Corals Workshop

—Select preferred alternatives for submission to NMFS

1 p.m.-3 p.m.

Deep Sea Coral Amendment (continued)

3 p.m.-4 p.m.

Unmanaged Forage Fish Action

—Update on progress

—Review and approve scoping document

4 p.m.-5 p.m.

Framework 9 to Monkfish

—Approve Framework 9 to the Monkfish Fishery Management Plan

Thursday, June 11, 2015

9 a.m.

Council Convenes

9 a.m.-9:30 a.m.

Cooperative Research

—Review and discuss Cooperative Research Committee Report

9:30 a.m.-10 a.m.

Guidelines for SAW Working Group Formation and Participation—Jim Weinberg

10 a.m.-10:30 a.m.

Trawl Survey Advisory Panel Formation—Bill Karp

10 a.m.-1 p.m.

Business Session

Organization Reports

—NMFS Greater Atlantic Regional Office

—NMFS Northeast Fisheries Science Center

—NOAA Office of General Counsel

—NOAA Office of Law Enforcement

—U.S. Coast Guard

—Atlantic States Marine Fisheries Commission

—Liaison Reports

• New England Council

• South Atlantic Council

—Executive Director's Report, Chris Moore

—Science Report, Rich Seagraves

—Committee Reports

• SSC Report

—Continuing and New Business

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aid should be directed to M. Jan Saunders, (302) 526-5251, at least 5 days prior to the meeting date.

Dated: May 19, 2015.
Tracey L. Thompson,
Acting Deputy Director, Office of Sustainable Fisheries, National Marine Fisheries Service.

[FR Doc. 2015-12494 Filed 5-21-15; 8:45 am]

BILLING CODE 3510-22-P